DEPARTMENT OF COMMERCE

National Oceanic and Atmospheric Administration

Agency Information Collection Activities; Submission to the Office of Management and Budget (OMB) for Review and Approval; Comment Request; Greater Atlantic Region Logbook Family of Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 19, 2025.

ADDRESSES: Interested persons are invited to submit written comments to Adrienne Thomas, NOAA PRA Officer, at NOAA.PRA@noaa.gov. Please reference OMB Control Number 0648-0212 in the subject line of your comments. All comments received are part of the public record and will generally be posted on https://www.regulations.gov without change. Do not submit Confidential Business Information or otherwise sensitive or protected information.

FOR FURTHER INFORMATION CONTACT: Requests for additional information or specific questions related to collection activities should be directed to Barry Clifford, Branch Chief—Data Processing and Quality, NOAA Fisheries—Greater Atlantic Regional Fisheries Office, (978)-281-9148, barry.clifford@noaa.gov.

SUPPLEMENTARY INFORMATION:

I. Abstract

This is a request for the renewal of an approved information collection. The Greater Atlantic Regional Fisheries Office (GARFO), under the Magnuson-Stevens Fishery Conservation and Management Act (Magnuson-Stevens Act) and the Atlantic Coastal Fisheries Cooperative Management Act (Atlantic Coastal Act) the New England Fishery Management Council (the Council) and the Atlantic States Marine Fisheries Commission (the Commission) are responsible for conservation and management of marine fishery resources off the east coast. NOAA's National Marine Fisheries Services (NMFS) enacts complementary regulations to Council and Commission actions.

The Magnuson-Stevens Act requires that conservation and management measures must prevent overfishing while achieving, on a continuing basis, the optimum yield from each fishery. These measures must be based on the best scientific information available. The Atlantic Coastal Act oversees coastal fishery resources that migrate, or are widely distributed, across the jurisdictional boundaries of two or more of the Atlantic States and Federal Government.

The use of vessel logbooks are essential tools in the management of fishery resources. Section 303(a)(5) of the Magnuson-Stevens Act specifically identifies the kinds of data to be collected for fishery management plans (FMPs), and the GARFO obtains much of this data through the logbooks, a web application, and vessel monitoring system (VMS) (which is approved under the 0648-0212 information collection) data. Logbooks are also known as Vessel Trip Reports (VTRs).

International, federal, state, and local fishery management authorities recognize the value of logbook data and use the data as a part of their management systems. Resulting data are used by economists, biologists, and managers to develop, monitor, and enforce controls on fishery harvests. Mandatory logbook reporting requirements are applied to all vessels permitted under the Atlantic mackerel, squid, butterfish, Atlantic sea scallop, Atlantic surf clam, ocean quahog, Northeast (NE) multispecies, monkfish, summer flounder, scup, black sea bass, Atlantic bluefish, spiny dogfish, Atlantic herring, tilefish, red crab, skate, and American lobster FMPs. If a vessel is permitted in more than one of these fisheries, only one report needs to be submitted to fulfill reporting requirements for all species.

The information collected using logbooks will be used by several offices of NMFS, the U.S. Coast Guard, the Councils and Commission, and state fishery agencies. The information is used to develop, implement, and monitor fishery management strategies. Logbook data serve as inputs for a variety of uses, including biological analyses and stock assessments, regulatory impact analyses, quota allocation selections and monitoring, economic profitability profiles, trade and import tariff decisions, allocation of grant funds among states, and analysis of ecological interactions among species. Additionally, the data serve and important means to facilitate enforcement and mitigate the impacts of interactions between fixed fishing gear and endangered whales. NMFS would be unable to fulfill the majority of its scientific research and fishery management missions without these data.

II. Method of Collection

Data is collected electronically using software applications submitted over the internet.

III. Data

OMB Control Number: 0648-0212.

Form Number(s): 88-30, 88-140.

Type of Review: Regular Submission [extension of a current information collection].

Affected Public: Individuals or households; business or other for-profit organizations.

Estimated Number of Respondents: 2,927.

Estimated Time per Response: Vessel Trip Reports: VTRs are estimated at 4 minutes per response. Lobster VTRs estimated at 5 minutes per response. Shellfish VTR estimated at 4 minutes per response. Fish Online web application estimated at 4 minutes per response.

Estimated Total Annual Burden Hours: 17,154 hours.

Estimated Total Annual Cost to Public: 0.

Respondent's Obligation: Mandatory.

Legal Authority: Magnuson-Stevens Fishery Conservation and Management Act and the Atlantic Coastal Fisheries Cooperative Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-04448 Filed 3-18-25; 8:45 am]

BILLING CODE 3510-22-P